CONSUMER PRODUCT SAFETY COMMISSION

Sunshine Act Meetings

Federal Register CITATION OF PREVIOUS ANNOUNCEMENT: 77 FR 2710, Thursday, January 19, 2012.

PREVIOUSLY ANNOUNCED TIME AND DATE OF MEETING: Wednesday, January 25, 2012, 10 a.m.-11 a.m.

Corrected Notice

TIME AND DATE: Wednesday, January 25, 2012; 10 a.m.-11 a.m.

PLACE: Hearing Room 420, Bethesda Towers, 4330 East West Highway, Bethesda, Maryland.

STATUS: Closed to the Public.

Matter To Be Considered

Compliance Status Report

The Commission staff will brief the Commission on the status of compliance matters.

For a recorded message containing the latest agenda information, call (301) 504-7948.

CONTACT PERSON FOR ADDITIONAL INFORMATION: Todd A. Stevenson, Office of the Secretary, 4330 East West Highway, Bethesda, MD 20814 (301) 504-7923.

Dated: January 19, 2012.
Todd A. Stevenson,
Secretary.

[FR Doc. 2012-1302 Filed 1-19-12; 11:15 am]

BILLING CODE 6355-01-P